DEPARTMENT OF ENERGY

Federal Energy Regulatory Commission

Combined Notice of Filings #1

July 1, 2009.

Take notice that the Commission received the following exempt wholesale generator filings:

Docket Numbers: EG09-67-000.

Applicants: Wilton Wind II, LLC.

Description: Notice of Self Certification of Exempt Wholesale Generator Status of Wilton Wind II, LLC.

Filed Date: 07/01/2009.

Accession Number: 20090701-5082.

Comment Date: 5 p.m. Eastern Time on Wednesday, July 22, 2009.

Take notice that the Commission received the following electric rate filings:

Docket Numbers: ER97-324-014; ER97-3834-021; ER00-1816-006; ER98-3026-011; ER05-1469-002; ER07-415-003; ER01-2317-008; ER08-1418-001.

Applicants: Detroit Edison Company, DTE Energy Trading, Inc., DTE River Rouge No. 1, LLC, DTE Edison America, Inc., DTE East China, LLC, DTE Pontiac North, LLC, Metro Energy, L.L.C., DTE Stoneman, LLC.

Description: The Detroit Edison Company et al. submits joint triennial market power update.

Filed Date: 06/29/2009.

Accession Number: 20090630-0005.

Comment Date: 5 p.m. Eastern Time on Friday, August 28, 2009.

Docket Numbers: ER97-4281-020; ER00-1259-009; ER02-1572-007; ER02-1571-007; ER00-3718-008.

Applicants: NRG Power Marketing LLC, Louisiana Generating LLC, Bayou Cove Peaking Power LLC, Big Cajun I Peaking Power LLC, NRG Sterlington Power LLC.

Description: Request for Category 1 Seller Determination of NRG Power Marketing LLC, et al.

Filed Date: 06/30/2009.

Accession Number: 20090630-5324.

Comment Date: 5 p.m. Eastern Time on Tuesday, July 21, 2009.

Docket Numbers: ER98-855-011.

Applicants: Wisconsin Electric Power Company.

Description: Market Power Analysis/Triennial Market Power Updates of Wisconsin Electric Power Company.

Filed Date: 06/30/2009.

Accession Number: 20090630-5213.

Comment Date: 5 p.m. Eastern Time on Monday, August 31, 2009.

Docket Numbers: ER98-4515-010.

Applicants: Cadillac Renewable Energy LLC.

Description: Cadillac Renewable Energy LLC request for Category 1 Seller designation in the Central region pursuant to Section 35.36(a)(2) of the FERC's regulations and the regional schedule set forth in Order 697-A.

Filed Date: 06/30/2009.

Accession Number: 20090701-0012.

Comment Date: 5 p.m. Eastern Time on Tuesday, July 21, 2009.

Docket Numbers: ER99-2948-017; ER00-2917-016; ER00-2918-016; ER05-261-009; ER01-556-015; ER01-1654-018; ER05-728-009; ER02-2567-016; ER04-485-013; ER07-244-008; ER07-245-008; ER07-247-008.

Applicants: Baltimore Gas and Electric Company, Constellation Power Source Generation LLC, Calvert Cliffs Nuclear Power Plant, Inc., Constellation Energy Commodities Group, Handsome Lake Energy, LLC, Nine Mile Point Nuclear Station, LLC, Constellation NewEnergy, Inc., Constellation Energy Commodities Group M, R.E. Ginna Nuclear Power Plant, LLC, Raven One, LLC, Raven Two, LLC, Raven Three, LLC.

Description: Baltimore Gas and Electric Company et al. submits Order 697 & 697—A request for determination of Category 1 Seller status.

Filed Date: 06/30/2009.

Accession Number: 20090701-0072.

Comment Date: 5 p.m. Eastern Time on Tuesday, July 21, 2009.

Docket Numbers: ER00-3562-009; ER04-1221-004; ER03-49-006; ER99-970-008.

Applicants: Calpine Energy Services, L.P., Mankato Energy Center, LLC, Riverside Energy Center, LLC, RockGen Energy, LLC.

Description: Updated Market Power Analysis of Calpine Energy Services, L.P., et al.

Filed Date: 06/30/2009.

Accession Number: 20090630-5235.

Comment Date: 5 p.m. Eastern Time on Monday, August 31, 2009.

Docket Numbers: ER00-3614-012; ER01-1300-010.

Applicants: BP Energy Company, Whiting Clean Energy, Inc.

Description: Updated Market Power Analysis of BP Energy Company and Whiting Clean Energy, Inc.

Filed Date: 06/30/2009.

Accession Number: 20090630-5247.

Comment Date: 5 p.m. Eastern Time on Monday, August 31, 2009.

Docket Numbers: ER02-25-010; ER00-3751-008; ER08-1236-004.

Applicants: Troy Energy, LLC; ANP Funding I, LLC; IPA Trading, LLC.

Description: ANP Funding I, LLC et al. submits updated market power analysis supporting their authorization to sell power at market-based rates.

Filed Date: 06/29/2009.

Accession Number: 20090630-0040.

Comment Date: 5 p.m. Eastern Time on Friday, August 28, 2009.

Docket Numbers: ER02-1213-011.

Applicants: Mirant Energy Trading, LLC.

Description: Mirant Energy Trading, LLC submits revised market based tariff and a request for Category 1 Seller status pursuant to Order 697.

Filed Date: 06/30/2009.

Accession Number: 20090701-0014.

Comment Date: 5 p.m. Eastern Time on Tuesday, July 21, 2009.

Docket Numbers: ER02-1437-007.

Applicants: Triton Power Michigan, LLC.

Description: Triton Power Michigan LLC Updated Market Power Analysis.

Filed Date: 06/30/2009.

Accession Number: 20090630-5310.

Comment Date: 5 p.m. Eastern Time on Monday, August 31, 2009.

Docket Numbers: ER03-345-013.

Applicants: New England Power Pool Participants Committee.

Description: New England Power Pool Participants Committee submits their thirteenth Semi-Annual Status Report on Load Response Programs.

Filed Date: 06/30/2009.

Accession Number: 20090701-0013.

Comment Date: 5 p.m. Eastern Time on Tuesday, July 21, 2009.

Docket Numbers: ER03-762-013; ER03-533-005.

Applicants: Alliant Energy Corporate Services, Inc.; Alliant Energy Neenah, LLC.

Description: Notice of change in status regarding market-based rates authority of Alliant Energy Corporate Services, Inc.

Filed Date: 06/29/2009.

Accession Number: 20090629-5077.

Comment Date: 5 p.m. Eastern Time on Monday, July 20, 2009.

Docket Numbers: ER04-318-008.

Applicants: Dominion Energy Kewaunee, Inc.

Description: Dominion Energy Kewaunee, Inc. Market Power Analyses for the Central Region.

Filed Date: 06/30/2009.

Accession Number: 20090630-5233.

Comment Date: 5 p.m. Eastern Time on Monday, August 31, 2009.

Docket Numbers: ER05-1372-002; ER05-1373-002; ER05-1374-002; ER05-1375-002; ER05-1376-002; ER99-2774-017.

Applicants: CinCap IV, LLC, CinCap V LLC, Cinergy Capital & Trading, Inc., Cinergy Power Investments, Inc., St. Paul Cogeneration, LLC, Duke Energy Trading & Marketing, LLC.

Description: CinCap IV, LLC et al. submits Original Sheet 1 et al. to Rate Schedule FERC No 2 Superseding Rate Schedule FERC No 1, First Revised Volume 1.

Filed Date: 06/30/2009.

Accession Number: 20090701-0071.

Comment Date: 5 p.m. Eastern Time on Tuesday, July 21, 2009.

Docket Numbers: ER06-560-003.

Applicants: Credit Suisse Energy LLC.

Description: Credit Suisse Energy LLC, Notice of Non-Material Change in Status.

Filed Date: 06/30/2009.

Accession Number: 20090630-5311.

Comment Date: 5 p.m. Eastern Time on Tuesday, July 21, 2009.

Docket Numbers: ER07-1106-004; ER01-390-006.

Applicants: ArcLight Energy Marketing, LLC; Chandler Wind Partners, LLC.

Description: ArcLight Energy Marketing, LLC et al. submits its Order 697 compliance filing and Category 1 Seller Status.

Filed Date: 06/30/2009.

Accession Number: 20090701-0015.

Comment Date: 5 p.m. Eastern Time on Tuesday, July 21, 2009.

Docket Numbers: ER07-277-007.

Applicants: Invenergy Cannon Falls LLC.

Description: Triennial Report of Invenergy Cannon Falls LLC.

Filed Date: 06/30/2009.

Accession Number: 20090630-5194.

Comment Date: 5 p.m. Eastern Time on Tuesday, July 21, 2009.

Docket Numbers: ER07-671-006.

Applicants: Trigen-St. Louis Energy Corporation.

Description: Trigen-St Louis Energy Corporation submits request for category 1 seller designation and revisions to its market based rate tariff.

Filed Date: 06/30/2009.

Accession Number: 20090701-0019.

Comment Date: 5 p.m. Eastern Time on Tuesday, July 21, 2009.

Docket Numbers: ER08-1297-003; ER01-1071-014; ER08-1293-003; ER08-1294-003; ER06-9-009; ER03-34-013; ER06-1261-008; ER03-1104-010; ER03-1105-010; ER08-197-007; ER06-1392-006; ER03-1103-005; ER98-2076-016; ER98-4222-015; ER08-250-004; ER09-989-002; ER09-988-002; ER09-832-001; ER08-1300-003; ER07-174-008; ER08-1296-003.

Applicants: Ashtabula Wind, LLC; Badger Windpower LLC; Crystal Lake Wind, LLC; Crystal Lake Wind II, LLC; FPL Energy Burleigh County Wind, LLC; FPL Energy Hancock County Wind, LLC; FPL Energy Mower County, LLC; FPL Energy North Dakota Wind, LLC; FPL Energy North Dakota Wind, LLC; FPL Energy Oliver Wind II, LLC; FPL Energy Oliver Wind, LLC; FPL Energy South Dakota Wind, LLC; Hawkeye Power Partners, LLC; Lake Benton Power Partners II LLC; Langdon Wind, LLC; NextEra Energy Point Beach, LLC; NextEra Energy Duane Arnold, LLC; Story Wind, LLC; NextEra Energy Power Marketing, LLC; Osceola Windpower, LLC; Osceola Windpower II, LLC.

Description: NextEra Companies Triennial Market Power Update for the Central Region.

Filed Date: 06/30/2009.

Accession Number: 20090630-5327.

Comment Date: 5 p.m. Eastern Time on Monday, August 31, 2009.

Docket Numbers: ER08-237-006.

Applicants: Forward Energy LLC.

Description: Triennial Report of Forward Energy LLC.

Filed Date: 06/30/2009.

Accession Number: 20090630-5199.

Comment Date: 5 p.m. Eastern Time on Monday, August 31, 2009.

Docket Numbers: ER09-1117-000.

Applicants: NGP Blue Mountain I LLC.

Description: NGP Blue Mountains I LLC submits a supplement to its MBR application.

Filed Date: 06/19/2009.

Accession Number: 20090622-0166.

Comment Date: 5 p.m. Eastern Time on Monday, July 06, 2009.

Docket Numbers: ER09-1370-000.

Applicants: Southwest Power Pool, Inc.

Description: Southwest Power Pool Inc. submits Interim Large Generator Interconnection Agreement between SPP as Transmission Provider, Oklahoma Gas and Electric Company as Transmission Owner, and OG&E as Interconnection Customer.

Filed Date: 06/29/2009.

Accession Number: 20090630-0020.

Comment Date: 5 p.m. Eastern Time on Monday, July 20, 2009.

Docket Numbers: ER09-1371-000.

Applicants: Bank of America, N.A.

Description: Bank of America, N.A. submits notice of cancellation of its market based rate schedule, Electric Rate Schedule FERC No 1.

Filed Date: 06/29/2009.

Accession Number: 20090630-0018.

Comment Date: 5 p.m. Eastern Time on Monday, July 20, 2009.

Docket Numbers: ER09-1372-000.

Applicants: New York Independent System Operator, Inc.

Description: New York Independent System Operator, Inc. submits an executed two-party Large Generating Facility Interconnection Agreement etc.

Filed Date: 06/29/2009.

Accession Number: 20090630-0019.

Comment Date: 5 p.m. Eastern Time on Monday, July 20, 2009.

Docket Numbers: ER09-1373-000.

Applicants: Midwest Independent Transmission System Operator, Inc.

Description: Midwest Independent Transmission System Operator, Inc. submits Second Revised Sheet 32 et al. to FERC Electric Tariff, Fourth Revised Volume 1 to be effective 8/30/09.

Filed Date: 06/30/2009.

Accession Number: 20090630-0039.

Comment Date: 5 p.m. Eastern Time on Tuesday, July 21, 2009.

Docket Numbers: ER09-1375-000.

Applicants: Southern California Edison Company.

Description: Southern California Edison Company submits revised rate sheets to the Large Generation Interconnection Agreement etc.

Filed Date: 06/30/2009.

Accession Number: 20090630-0037.

Comment Date: 5 p.m. Eastern Time on Tuesday, July 21, 2009.

Docket Numbers: ER09-1376-000.

Applicants: Duke Energy Business Services, LLC.

Description: Duke Energy Business Services, LLC submits amended and restated interconnection agreement between the City of Loganport, Indiana and Duke Indiana.

Filed Date: 06/30/2009.

Accession Number: 20090630-0058.

Comment Date: 5 p.m. Eastern Time on Tuesday, July 21, 2009.

Docket Numbers: ER09-1377-000.

Applicants: WSPP Inc.

Description: WSPP Inc. submits revisions to reflect name changes for several other members, as well as the termination of two other memberships.

Filed Date: 06/30/2009.

Accession Number: 20090630-0057.

Comment Date: 5 p.m. Eastern Time on Tuesday, July 21, 2009.

Docket Numbers: ER09-1378-000.

Applicants: Southern California Edison Company.

Description: Southern California Edison Company submits revised rate sheets for the Small Generator Interconnection Agreement and the Service Agreement for Wholesale Distribution Service, etc.

Filed Date: 06/30/2009.

Accession Number: 20090701-0016.

Comment Date: 5 p.m. Eastern Time on Tuesday, July 21, 2009.

Docket Numbers: ER09-1379-000.

Applicants: Union Electric Company.

Description: Union Electric Co. submits a service agreement for Wholesale Distribution Service with the City of Jackson, Missouri.

Filed Date: 06/30/2009.

Accession Number: 20090701-0017.

Comment Date: 5 p.m. Eastern Time on Tuesday, July 21, 2009.

Docket Numbers: ER09-1380-000.

Applicants: Southwest Power Pool, Inc.

Description: Southwest Power Pool, Inc. submits a re-executed Service Agreement for Network Integration Transmission Service with Arkansas Electric Cooperative Corp et al.

Filed Date: 06/30/2009.

Accession Number: 20090701-0018.

Comment Date: 5 p.m. Eastern Time on Tuesday, July 21, 2009.

Docket Numbers: ER09-1384-000.

Applicants: Consolidated Edison Company of New York, Inc.

Description: Consolidated Edison Company of New York, Inc. submits amendments to Con Edison's Delivery Service Rate Schedule 96 etc.

Filed Date: 06/30/2009.

Accession Number: 20090701-0073.

Comment Date: 5 p.m. Eastern Time on Tuesday, July 21, 2009.

Docket Numbers: ER09-1385-000.

Applicants: California Independent System Operator Corporation.

Description: California Independent System Operator Corporation submits Amendment 1 to the Amended and Restated Metered Subsystem Agreement between the ISO and the City of Anaheim, California.

Filed Date: 06/30/2009.

Accession Number: 20090701-0061.

Comment Date: 5 p.m. Eastern Time on Tuesday, July 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-16756 Filed 7-14-09; 8:45 am]

BILLING CODE 6717-01-P